DEPARTMENT OF HEALTH AND HUMAN SERVICES

Food and Drug Administration

21 CFR Part 20

[Docket No. 02N-0086]

Public Information; Cross Reference to Other Regulations; Technical Amendment

AGENCY: Food and Drug Administration, HHS.

ACTION: Final rule; technical amendment.

SUMMARY: The Food and Drug Administration (FDA) is amending its regulations to correct an inadvertent error that has been incorporated into the public information regulations. This action is being taken to ensure the accuracy and consistency of the regulations.

DATES: This rule is effective March 26, 2002.

FOR FURTHER INFORMATION CONTACT: Doris Tucker, Office of Policy, Planning, and Legislation (HF-27), Food and Drug Administration, 5600 Fishers Lane, Rockville, MD 20857, 301-827-7010.

SUPPLEMENTARY INFORMATION: FDA has discovered that an error has been incorporated into the agency's regulations for 21 CFR part 20. This document corrects that error. Publication of this document constitutes final action under the Administrative Procedure Act (5 U.S.C. 553). FDA has determined that notice and public comment are unnecessary because this amendment is nonsubstantive.

List of Subjects in 21 CFR Part 20

Confidential business information, Courts, Freedom of information, Government employees.

Therefore, under the Federal Food, Drug, and Cosmetic Act and under authority delegated to the Commissioner of Food and Drugs, 21 CFR part 20 is amended as follows:

PART 20—PUBLIC INFORMATION

1. The authority citation for 21 CFR part 20 continues to read as follows:

Authority: 5 U.S.C. 552; 18 U.S.C. 1905; 19 U.S.C. 2531-2582; 21 U.S.C. 321-393, 1401-1403; 42 U.S.C. 241, 242, 242a, 242l, 242n, 243, 262, 263, 263b-263n, 264, 265, 300u-300u-5, 300aa-1.

§ 20.100 [Amended]

2. Section 20.100 Applicability; cross-reference to other regulations is amended by removing paragraph (c)(30) and redesignating paragraphs (c)(31) through (c)(41) as paragraphs (c)(30) through (c)(40), respectively.

Dated: March 19, 2002.
Margaret M. Dotzel,
Associate Commissioner for Policy.

[FR Doc. 02-7180 Filed 3-25-02; 8:45 am]

BILLING CODE 4160-01-S